DEPARTMENT OF HOUSING AND URBAN DEVELOPMENT

[Docket No. FR-4682-N-01]

Notice of Regulatory Waiver Requests Granted for the First Quarter of Calendar Year 2001

AGENCY: Office of the Secretary, HUD.

ACTION: Public Notice of the Granting of Regulatory Waivers from January 1, 2001 through March 31, 2001.

SUMMARY: Section 106 of the Department of Housing and Urban Development Reform Act of 1989 (the “HUD Reform Act”), requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on January 1, 2001 and ending on March 31, 2001.

FOR FURTHER INFORMATION CONTACT: For general information about this notice, contact Aaron Santa Anna, Assistant General Counsel for Regulations, Room 10282, Department of Housing and Urban Development, 451 Seventh Street, SW, Washington, DC 20410; telephone (202) 708-3055 (this is not a toll-free number). Hearing or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the Housing and Urban Development Reform Act of 1989 (the “HUD Reform Act”), the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request;

e. State how additional information about a particular waiver grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from January 1, 2001 through March 31, 2001. Additionally, this notice contains two reports of regulatory waivers granted during the final quarter of calendar year 2000, which were inadvertently omitted in the final report for calendar year 2000. These two reports can be found in Section I of this notice.

For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement in title 24 that is being waived as part of the waiver-grant action. For example, a waiver of both § 58.73 and § 58.74 would appear sequentially in the listing under § 58.73.

Waiver-grant actions involving the same initial regulatory citation are in time sequence beginning with the earliest-dated waiver grant action.

Should HUD receive additional reports of waiver actions taken during the period covered by this report before the next report is published, the next updated report will include these earlier actions, as well as those that occurred between April 1, 2001 through June 30, 2001.

Accordingly, information about approved waiver requests pertaining to HUD regulations is provided in the Appendix that follows this notice.

Dated: June 28, 2001.
Alphonso Jackson,
Deputy Secretary.

Appendix

Listing of Waivers of Regulatory Requirements Granted by Offices of the Department of Housing and Urban Development January 1, 2001 Through March 31, 2001

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Housing.

III. Regulatory waivers granted by the Office of Multifamily Housing Assistance Restructuring.

IV. Regulatory waivers granted by the Office of Public and Indian Housing.

I. Regulatory Waivers Granted by the Office of Community Planning and Development

For further information about the following waiver actions, please see the name of the contact person which immediately follows the description of the waiver granted.

• Regulation: 24 CFR 91.520(a).

Project/Activity: The Village of Oak Park, Illinois, requested a waiver of the submission deadline for the Village's 2000 program year CAPER.

Nature of Requirement: Section 91.502(a) requires each grantee to submit a performance report to HUD within 90 days after the close of the grantee's program year.

Granted By: Donna M. Abbenante, Acting General Deputy Assistant Secretary for Community Planning and Development.

Date Granted: March 20, 2001.

Reasons Waived: The Village was unable to submit a complete and accurate expenditure report by the deadline due to the illness of the employee responsible for preparing the CAPER. The delay in getting the report prepared also delayed the citizen participation process. While HUD is desirous of timely report, the Department is also interested in ensuring that the report is complete and accurate and meets the statutory requirements for citizen participation. The documentation provided by the Village is sufficient for granting the waiver.

Contact: Cornelia Robertson-Terry, Office of Community Planning and Development, Department of Housing and Urban Development, 451 Seventh Street, SW, Room 7152, Washington, DC 20410; telephone (202) 708-2565.

• Regulation: Section 91.520(a).

Project/Activity: The State of Oregon requested a waiver of the submission deadline for the State's 2000 program year CAPER, Salem, Oregon.

Nature of Requirement: 24 CFR 91.502(a) requires each grantee to submit a performance report to HUD within 90 days after the close of the grantee's program year.

Granted By: Donna M. Abbenante, Acting General Deputy Assistant Secretary for Community Planning and Development.

Date Granted: March 30, 2001.

Reasons Waived: Oregon's Economic and Community Development Department (OECDD) requested the 30-day extension due to reconciling delays in the State's fiscal program records which impacted their ability to comply with beneficiary reporting requirements. In addition, reconciling delays in IDIS data and OECDD's tracking system, has proven to be particularly burdensome on the staff. Based on this information and the fact that the State submitted the request in a timely manner, the Department found good cause for granting the waiver.

Contact: Cornelia Robertson-Terry, Office of Community Planning and Development, Department of Housing and Urban Development, 451 Seventh Street, SW, Room 7152, Washington, DC 20410; telephone (202) 708-2565.

• Regulation: 24 CFR 92.205(e).

Project/Activity: The City of Milwaukee, Wisconsin, requested a waiver of the HOME provisions regarding termination of a project prior to completion and the repayment requirement.

Nature of Requirement: Section 92.205(e) requires that a HOME assisted project that is terminated before completion, either voluntarily or otherwise, constitutes an ineligible activity and any HOME funds invested in the project must be repaid to the participating jurisdiction's HOME Investment Trust Funds.

Granted By: Donna M. Abbenante, Acting General Deputy Assistant Secretary for Community Planning and Development.

Date Granted: March 26, 2001.

Reasons Waived: The Department found good cause for granting the waiver due to the extenuating circumstances. The owner of the property requested that all work on the home be stopped after a gunfight outside the home resulted in a relative being killed by a stray bullet. The owner moved out of the house and put the house on the market. From the total approved amount of $23,505.00, the owner had spent $3,305.98.

Contact: Cornelia Robertson-Terry, Office of Community Planning and Development, Department of Housing and Urban Development, 451 Seventh Street, SW, Room 7152, Washington, DC 20410; telephone (202) 708-2565.

• Regulation: 24 CFR 92.219(b)(2)(ii).

Project/Activity: The Alabama Housing Finance Authority, Montgomery, Alabama (AHFA), requested a waiver to count sweat equity contributions made to habitat for Humanity units in AHFA's loan portfolio as program match.

Nature of Requirement: Section 220(b)(1)(A) of the Cranston-Gonzalez National Affordable Housing Act of 1990 requires that for contributions to housing not assisted with HOME funds to be counted as match, they must be made to housing that qualifies as affordable pursuant to Section 215(b). This section defines affordable housing as housing that: has a purchase price that does not exceed 95 percent of the median purchase price for the area; is the principal residence of any family that qualifies as a low-income family; and is subject to resale restrictions that are established by the participating jurisdiction (PJ). These statutory requirements are established at 24 CFR 92.219(b)(2)(ii) of the HOME regulations. The HOME regulations also require that, in order for a contribution made to housing not assisted with HOME to count as match, the PJ must execute a written agreement with the project owner that imposes these statutory requirements and the regulatory property standard requirements of 24 CFR 92.251.

Granted By: Donna M. Abbenante, Acting General Deputy Assistant Secretary for Community Planning and Development.

Date Granted: April 4, 2001.

Reasons Waived: The Department reviewed the loan portfolio and determined units eligible. While AHFA did not execute the required agreement and include the resale/recapture provisions in its Consolidated Plan, the Department waived these requirements since failure to do so would create a financial hardship for the State of Alabama. This waiver allows the State to count as match otherwise eligible BMIR loans and real property contributions toward 111 units and sweat equity contributed toward 75 units.

Contact: Cornelia Robertson-Terry, Office of Community Planning and Development, Department of Housing and Urban Development, 451 Seventh Street, SW, Room 7152, Washington, DC 20410; telephone (202) 708-2565.

• Regulation: 24 CFR 582.105(e).

Project/Activity: The City of Berkeley, California, requested a waiver of the eight percent administrative cost limitation relative to its 1993 Shelter Plus Care (SPC) grant.

Nature of Requirement: Section 582.105(e) provides for an eight percent cap on administrative fees.

Granted By: Cardell Cooper, Assistant Secretary for Community Planning and Development.

Date Granted: January 12, 2001.

Reasons Waived: The Department determined that because the City intends to serve the same number of households that was originally anticipated for an additional period of time with no increase in funds, an increase in the administrative costs allowed for the program is appropriate. The City may use up to 11.2% of the grant for administrative costs.

Contact: Cornelia Robertson-Terry, Office of Community Planning and Development, Department of Housing and Urban Development, 451 Seventh Street, SW, Room 7152, Washington, DC 20410; telephone (202) 708-2565.

II. Regulatory Waivers Granted by the Office of Housing

For further information about the following waiver actions, please see the name of the contact person which immediately follows the description of the waiver granted.

• Regulation: 24 CFR 203.357(c).

Project/Activity: Waiver of regulations to permit non-profit mortgagors that own multiple insured properties to execute deeds in lieu of foreclosure.

Nature of Requirement: Section 203.357(c) permits mortgagors that are individuals who own more than one insured property to execute deeds in lieu of foreclosure with HUD's prior written consent.

Granted By: William C. Apgar, Assistant Secretary for Housing—Federal Housing Commissioner.

Dated Granted: January 19, 2001.

Reason Waived: In aggregate, these non-profit mortgagors own approximately 719 properties located in and around New York City. Fraudulent activities of some sellers, originating mortgagees, appraisers, title companies, and others, resulted in underfunding the rehabilitation, incomplete rehabilitation, insufficient rental income and mortgage default. Many of the non-profit mortgagors were misled by assurances that consultants would oversee the rehabilitation of the properties and that the rehabilitated properties would generate sufficient cash flow. Many of the non-profit mortgagors lacked the financial capacity and experience to rehabilitate the properties.

The regulation provides that to be eligible for a deed in lieu of foreclosure the mortgagor who owns multiple insured properties must be an individual. Non-profit mortgagors are entities, not individuals. Deeds in lieu of foreclosure reduce the losses incurred by the insurance funds because HUD does not have to include the expense of foreclosure proceedings in the payments for insurance claims.

Contact: Joe McCloskey, Director, Office of Single Family Asset Management, Department of Housing and Urban Development, 451 Seventh Street, SW, Washington, DC 20410-7000; telephone: (202) 708-1672.

• Regulation: 24 CFR 203.673(a) and (b), 203.674(b)(1), (2), (3), and (4), 203.675, 203.676, 203.677, and 203.678.

Project/Activity: Waiver of regulations to permit occupied conveyances for approximately 719 properties located in eight counties in and around New York City.

Nature of Requirement: Section 203.673(a) and (b) defines, for the purpose of an occupied conveyance, the habitability criteria that a property must satisfy in its present condition or with repair expenditures of not more than five percent of the fair market value of the property. The regulation requires that the property be free of lead-based paint hazards and each residential unit must contain adequate heating facilities, adequate electrical supplies, adequate cooking facilities and sanitary facilities, and a continuing supply of hot and cold water. Section 203.674(b)(1), (2), (3), and (4) establishes the standards by which HUD evaluates requests for occupied conveyance. Section 203.675 requires mortgagees to give occupants a notice of pending acquisition between 60 and 90 days before acquisition. Section 203.676 gives occupants 20 days after their receipt of the mortgagee's notice of pending acquisition during which they must submit to HUD their request for occupied conveyance. Section 203.677 establishes the procedures that HUD uses to decide whether to approve or deny an occupant's request for occupied conveyance. Section 203.678 requires that property be conveyed vacant under certain circumstances, including when an occupant fails to request occupied conveyance or to appeal HUD's denial of the request within the specified time period.

Granted By: William C. Apgar, Assistant Secretary for Housing—Federal Housing Commissioner.

Dated Granted: January 19, 2001.

Reason Waived: Due to defaults on FHA-insured mortgages, HUD anticipates acquiring up to 719 multi-unit properties in the New York City area that were purchased by non-profit organizations to provide low-income housing. Fraudulent activities of some sellers, originating mortgagees, appraisers, title companies, and others, resulted in underfunding the rehabilitation, incomplete rehabilitation, insufficient rental income and mortgage default. The originating mortgagees sold these mortgages to other mortgagees. HUD generally requires mortgagees to evict occupants prior to conveying title to HUD in exchange for mortgage insurance benefits. The regulations permit occupied conveyance when the occupants and the property involved satisfy certain standards.

Waiver of the cited regulations is necessary to allow for a shortened process for requesting and approving occupied conveyances. Waiver of the habitability standards is necessary as some units have deficiencies because the properties are in varying stages of rehabilitation, or, the property does not qualify as a one-to-four family dwelling as it is a shared facility, single room occupancy building. Local eviction laws in and around New York City may delay conveyances thereby increasing the costs included in insurance claims. In addition, the affordable housing supply is limited in these communities. The eviction of the thousands of occupants of these 719 properties over a short time period would severely overtax the limited resources in the effected communities and likely increase homelessness.

Contact: Joe McCloskey, Director, Office of Single Family Asset Management, Department of Housing and Urban Development, 451 Seventh Street, SW, Washington, DC 20410-7000; telephone: (202) 708-1672.

• Regulation: 24 CFR 291.100(a)(2).

Project/Activity: Sale of REO home in Chicago, Illinois, to former mortgagors in occupancy who defaulted on their mortgage.

Nature of Requirement: Section 291.100(a)(2) provides that neither HUD nor any transferor pursuant to § 291.90(a) or § 291.200 will offer former mortgagors in occupancy who have defaulted on the mortgage the right of first refusal to repurchase the same property.

Granted By: William C. Apgar, Assistant Secretary for Housing—Federal Housing Commissioner.

Date Granted: October 2, 2000.

Reason Waived: Approval of the waiver allowed the mortgagors to repurchase their former home from HUD for its fair market value so that they could remain located near the hospital where their seriously ill child receives regular treatment. Counseling agencies, HUD staff, and others familiar with the case believe that forcing the mortgagors' family to move by failing to grant this waiver would be detrimental to the health of the child.

The property suffered from significant structural defects and was grossly overvalued when it was first acquired by the mortgagor. Recurrent repair costs contributed to the default. The mortgagors' were counseled by a HUD-approved housing counseling agency (HCA) through the foreclosure and acquisition process. The HCA assisted them by obtaining financial commitments from local non-profits and government agencies to provide funds for repairs and affordable mortgage financing terms. The purchase price was not financed with an FHA insured mortgage.

Contact: Joe McCloskey, Director, Office of Single Family Asset Management, Department of Housing and Urban Development, 451 Seventh Street, SW, Washington, DC 20410-7000; telephone: (202) 708-1672.

• Regulation: 24 CFR 291.210(a).

Project/Activity: Waiver of the requirement of 24 CFR 291.210(a) to provide authority for the Teacher Next Door Initiative which allows governmental entities and private nonprofit organizations to purchase HUD-owned single family properties offered with mortgage insurance on a direct sales basis and to provide discounts of 50 percent off the list price for resale to teachers.

Nature of Requirement: Section 291.210(a) permits direct sales at a discount off the list prices of properties sold without mortgage insurance to governmental entities and private nonprofit organizations for use in HUD and local housing or homeless programs.

Granted by: William C. Apgar, Assistant Secretary for Housing—Federal Housing Commissioner.

Date granted: October 4, 2000.

Reasons waived: Based on HUD's experience with Real Estate Owned (REO) sales, it would not be detrimental to the insurance fund to permit governmental entities and private nonprofit organizations to purchase REO properties offered with mortgage insurance on a direct sales basis or to provide discounts of 50 percent on properties sold for use in the Teacher Next Door Initiative.

Contact: Joe McCloskey, Director, Office of Single Family Asset Management, Department of Housing and Urban Development, 451 Seventh Street, SW, Washington, DC 20410-7000; telephone: (202) 708-1672.

• Regulation: 24 CFR 891.100(d).

Project/Activity: Three Gems, Lowell, Massachusetts, Project Number: 023-HD161/MA06-Q991-009.

Nature of Requirement: HUD's regulation at 24 CFR 891.100(d) prohibits amendment of the amount of approved capital advance funds prior to initial closing.

Granted By: William C. Apgar, Assistant Secretary for Housing—Federal Housing Commissioner.

Date Granted: January 2, 2001.

Reason Waived: The Project secured secondary financing from The Commonwealth of Massachusetts; the sponsor contributed the required minimum capital investment; labor and material costs in the area were high; and the project was economically designed and comparable to other similar projects developed in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Riley House, Hyde Park, Massachusetts, Project Number: 023-EE111/MA06-S991-005.

Nature of Requirement: HUD's regulation at 24 CFR 891.100(d) prohibits amendment of the amount of approved capital advance funds prior to initial closing.

Granted By: William C. Apgar, Assistant Secretary for Housing—Federal Housing Commissioner.

Date Granted: January 4, 2001.

Reason Waived: The sponsor/owner received secondary financing from the Federal Home Loan Bank, state home funds and city home funds; the cost of real estate development in the Boston area was greater than in other parts of the country; and the project was economically designed and comparable to other similar projects developed in the area.

Contact: Willie Spearmon, Director, Office of Housing Assistance and Grant Administration, Department of Housing and Urban Development, 451 Seventh Street, SW, Washington, DC 20410-7000, telephone: (202) 708-3000.

• Regulation: 24 CFR 891.100(d).

Project/Activity: Cooperative Services, Jamaica Plain, Massachusetts, Project Number: 023-EE114/MA06-S991-008.

Nature of Requirement: HUD's regulation at 24 CFR 891.100(d) prohibits amendment of the amount of approved capital advance funds prior to initial closing.

Granted By: William C. Apgar, Assistant Secretary for Housing—Federal Housing Commissioner.

Date Granted: January 5, 2001.

Reason Waived: The sponsor/owner received $1,250,000 in secondary financing from The Federal Home Loan Bank, Cedac and City Home Funds; the cost of real estate development in the Boston area was greater than in other parts of the country; and the project was economically designed and comparable to other similar projects developed in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Gibb Thomasville Village II, Thomasville, Georgia, Project Number: 061-HD068/GA06-Q991-001.

Nature of Requirement: HUD's regulation at 24 CFR 891.100(d) prohibits amendment of the amount of approved capital advance funds prior to initial closing.

Granted By: William C. Apgar, Assistant Secretary for Housing—Federal Housing Commissioner.

Date Granted: January 19, 2001.

Reason Waived: The sponsor/owner made concerted efforts to reduce the expenses for the project and to obtain funding from other sources, and the project was comparable in cost to Gibb Thomasville Village I.

Contact: Willie Spearmon, Director, Office of Housing Assistance and Grant Administration, Department of Housing and Urban Development, 451 Seventh Street, SW, Washington, DC 20410-7000; telephone: (202) 708-3000.

• Regulation: 24 CFR 891.100(d).

Project/Activity: Transitional Learning Center, Galveston, Texas, Project Number: 114-HD013/TX24-Q971-001.

Nature of Requirement: Prohibition against amendment funds prior to initial closing.

Granted By: William C. Apgar, Assistant Secretary for Housing—Federal Housing Commissioner.

Date Granted: January 19, 2001.

Reason Waived: The Project was economically designed and additional funds were needed to meet the new windstorm code requirements imposed by the Texas Department of Insurance.

Contact: Willie Spearmon, Director, Office of Housing Assistance and Grant Administration, Department of Housing and Urban Development, 451 Seventh Street, SW, Washington, DC 20410-7000; telephone: (202) 708-3000.

• Regulation: 24 CFR 891.100(d).

Project/Activity: Ziegler Homes II, Toledo, Ohio, Project Number: 042-HD058/OH12-Q961-005.

Nature of Requirement: HUD's regulation at 24 CFR 891.100(d) prohibits amendment of the amount of approved capital advance funds prior to initial closing.

Granted By: Mel Martinez, Secretary.

Date Granted: March 9, 2001.

Reason Waived: The Project was modestly designed and comparable to similar projects in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Ottawa River Estates, Toledo, Ohio, Project Number: 042-HD072/OH12-Q971-004.

Nature of Requirement: HUD's regulation at 24 CFR 891.100(d) prohibits amendment of the amount of approved capital advance funds prior to initial closing.

Granted By: Mel Martinez, Secretary.

Date Granted: March 9, 2001.

Reason Waived: The Project was modestly designed and comparable to similar projects in the area.

Contact: Willie Spearmon, Director, Office of Housing Assistance and Grant Administration, Department of Housing and Urban Development, 451 Seventh Street, SW, Washington, DC 20410-7000; Telephone: (202) 708-3000.

• Regulation: 24 CFR 891.100(d).

Project/Activity: Madison Terrace, Madison Township, Ohio, Project Number: 042-HD085/OH12-Q991-006.

Nature of Requirement: HUD's regulation at 24 CFR 891.100(d) prohibits amendment of the amount of approved capital advance funds prior to initial closing.

Granted By: Mel Martinez, Secretary.

Date Granted: March 9, 2001.

Reason Waived: The Project was modestly designed and comparable to similar projects in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Ridgeview Terrace I, Ashtabula, Ohio, Project Number: 042-EE106/OH12-S981-009.

Nature of Requirement: HUD's regulation at 24 CFR 891.100(d) prohibits amendment of the amount of approved capital advance funds prior to initial closing.

Granted By: Mel Martinez, Secretary.

Date Granted: March 9, 2001.

Reason Waived: The Project was modestly designed and comparable to similar projects in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Friendship Plaza, Lincoln Heights, Ohio, Project Number: 046-EE047/OH10-S981-003.

Nature of Requirement: HUD's regulation at 24 CFR 891.100(d) prohibits amendment of the amount of approved capital advance funds prior to initial closing.

Granted By: Mel Martinez, Secretary.

Date Granted: March 9, 2001.

Reason Waived: The Project was modestly designed and comparable to similar projects in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Lytle Trace, Williamsburg, Oh, Project Number: 046-EE050/OH10-S991-003.

Nature of Requirement: HUD's regulation at 24 CFR 891.100(d) prohibits amendment of the amount of approved capital advance funds prior to initial closing.

Granted By: Mel Martinez, Secretary.

Date Granted: March 9, 2001.

Reason Waived: The Project was modestly designed and comparable to similar projects in the area.

Contact: Willie Spearmon, Director, Office of Housing Assistance and Grant Administration, Department of Housing and Urban Development, 451 Seventh Street, SW, Washington, DC 20410-7000; telephone: (202) 708-3000.

• Regulation: 24 CFR 891.100(d).

Project/Activity: NCR of Aaron Drive, Middleton, Ohio, Project Number: 046-EE051/OH10-S991-004.

Nature of Requirement: HUD's regulation at 24 CFR 891.100(d) prohibits amendment of the amount of approved capital advance funds prior to initial closing.

Granted By: Mel Martinez, Secretary.

Date Granted: March 9, 2001.

Reason Waived: The Project was modestly designed and comparable to similar projects in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Central Park II, Philadelphia, Pennsylvania, Project Number: 034-EE095/PA26-S991-004.

Nature of Requirement: HUD's regulation at 24 CFR 891.100(d) prohibits amendment of the amount of approved capital advance funds prior to initial closing.

Granted By: Mel Martinez, Secretary.

Date Granted: March 9, 2001.

Reason Waived: The Project was modest in design, comparable to other projects developed in the area and the sponsor had secured additional funds from outside sources but was unable to secure secondary financing from the Pennsylvania Housing Finance Agency.

Contact: Willie Spearmon, Director, Office of Housing Assistance and Grant Administration, Department of Housing and Urban Development, 451 Seventh Street, SW, Washington, DC 20410-7000; telephone: (202) 708-3000.

• Regulation: 24 CFR 891.100(d).

Project/Activity: Guilford Homes, Baltimore City, Maryland, Project Number: 052-HD040/MD06-Q991-005.

Nature of Requirement: HUD's regulation at 24 CFR 891.100(d) prohibits amendment of the amount of approved capital advance funds prior to initial closing.

Granted By: Mel Martinez, Secretary.

Date Granted: March 9, 2001.

Reason Waived: The Project was economically designed, comparable to other similar projects developed in the jurisdiction, there was an increase in the construction budget due to some necessary repairs needed at the project, and the sponsor had exhausted all efforts to obtain additional funding from other sources.

Contact: Willie Spearmon, Director, Office of Housing Assistance and Grant Administration, Department of Housing and Urban Development, 451 Seventh Street, SW, Washington, DC 20410-7000, telephone: (202) 708-3000.

• Regulation: 24 CFR 891.100(d).

Project/Activity: Cote Brilliante Senior Apartments, St. Louis, Missouri, Project Number: 085-EE046/MO36-S991-003.

Nature of Requirement: HUD's regulation at 24 CFR 891.100(d) prohibits amendment of the amount of approved capital advance funds prior to initial closing.

Granted By: Mel Martinez, Secretary.

Date Granted: March 9, 2001.

Reason Waived: Construction cost in the area had escalated.

Contact: Willie Spearmon, Director, Office of Housing Assistance and Grant Administration, Department of Housing and Urban Development, 451 Seventh Street, SW, Washington, DC 20410-7000; telephone: (202) 708-3000.

• Regulation: 24 CFR 891.100(d).

Project/Activity: Unionville Senior Housing, Unionville, Connecticut, Project Number: 017-EE045/CT26-S981-003.

Nature of Requirement: HUD's regulation at 24 CFR 891.100(d) prohibits amendment of the amount of approved capital advance funds prior to initial closing.

Granted By: Mel Martinez, Secretary.

Date Granted: March 9, 2001.

Reason Waived: The project was economically designed and comparable to other similar projects in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Tolland Senior Housing, Tolland, Connecticut, Project Number: 017-EE043/CT26-S981-001.

Nature of Requirement: HUD's regulation at 24 CFR 891.100(d) prohibits amendment of the amount of approved capital advance funds prior to initial closing.

Granted By: Mel Martinez, Secretary.

Date Granted: March 9, 2001.

Reason Waived: The Project was economically designed and comparable to other similar projects constructed in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Peach Tree Acres, Harbeson, Delaware, Project Number: 032-HD021/DE26-Q981-003.

Nature of Requirement: HUD's regulation at 24 CFR 891.100(d) prohibits amendment of the amount of approved capital advance funds prior to initial closing.

Granted By: Mel Martinez, Secretary.

Date Granted: March 9, 2001.

Reason Waived: The Sponsor had secured additional funds and the project was modest in design and consistent with other projects developed in the area.

Contact: Willie Spearmon, Director, Office of Housing Assistance and Grant Administration, Department of Housing and Urban Development, 451 Seventh Street, SW, Washington, DC 20410-7000; telephone: (202) 708-3000.

• Regulation: 24 CFR 891.100(d).

Project/Activity: Woodbury Senior Housing, Woodbury, Connecticut, Project Number: 017-EE044/CT26-S981-002.

Nature of Requirement: HUD's regulation at 24 CFR 891.100(d) prohibits amendment of the amount of approved capital advance funds prior to initial closing.

Granted By: Sean Cassidy, General Deputy Assistant Secretary for Housing—Deputy Federal Housing Commissioner.

Date Granted: March 21, 2001.

Reason Waived: The Project was economically designed, comparable to other similar projects developed in the jurisdiction and all efforts to lower the cost of the project had been exhausted.

Contact: Willie Spearmon, Director, Office of Housing Assistance and Grant Administration, Department of Housing and Urban Development, 451 Seventh Street, SW, Washington, DC 20410-7000; telephone: (202) 708-3000.

• Regulation: 24 CFR 891.100(d).

Project/Activity: CLRC, IV, Loves Park, Illinois, Project Number: 071-EE144/IL06-S991-001.

Nature of Requirement: HUD's regulation at 24 CFR 891.100(d) prohibits amendment of the amount of approved capital advance funds prior to initial closing.

Granted By: Sean Cassidy, General Deputy Assistant Secretary for Housing—Deputy Federal Housing Commissioner.

Date Granted: March 22, 2001.

Reason Waived: The Project was modestly designed, the cost to develop the project was comparable to similar projects in the area, and the sponsor had exhausted all efforts to secure additional funding.

Contact: Willie Spearmon, Director, Office of Housing Assistance and Grant Administration, Department of Housing and Urban Development, 451 Seventh Street, SW, Washington, DC 20410-7000; telephone: (202) 708-3000.

• Regulation: 24 CFR 891.100(d) and 24 CFR 891.165.

Project/Activity: ASI-Missoula, Missoula, Montana, Project Number: 093-HD013/MT99-Q961-001.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: The Field Office had not received the amendment money necessary for the project to go to initial closing. The previous waiver granted August 21, 2000, to permit the project to receive up to $145,138 in amendment funds was still in effect.

Contact: Willie Spearmon, Director, Office of Housing Assistance and Grant Administration, Department of Housing and Urban Development, 451 Seventh Street, SW, Washington, DC 20410-7000; telephone: (202) 708-3000.

• Regulation: 24 CFR 891.100(d) and 24 CFR 891.165.

Project/Activity: Viceroy Apartments, San Antonio, Texas, Project Number: 115-HD027/TX59-Q981-002.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: The sponsor needed additional time for fund raising efforts. Also, the project was economically designed, comparable to other similar projects developed in the jurisdiction, and the owner exhausted all efforts in seeking funding from other resources.

Contact: Willie Spearmon, Director, Office of Housing Assistance and Grant Administration, Department of Housing and Urban Development, 451 Seventh Street, SW, Washington, DC 20410-7000; telephone: (202) 708-3000.

• Regulation: 24 CFR 891.100(d) and 24 CFR 891.165.

Project/Activity: Biscay Road Residence, Damariscotta, Maine, Project Number: 024-HD027/ME26-Q981-001.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: The firm commitment application had been processed except for receiving the appraisal. Also, the project was economically designed, comparable to other similar projects developed in the jurisdiction, and the owner exhausted all efforts in seeking funding from other sources.

Contact: Willie Spearmon, Director, Office of Housing Assistance and Grant Administration, Department of Housing and Urban Development, 451 Seventh Street, SW, Washington, DC 20410-7000; telephone: (202) 708-3000.

• Regulation: 24 CFR 891.100(d) and 24 CFR 891.165.

Project/Activity: St. Anthony Homes, Baltimore, Maryland, Project Number: 052-HD029/MD06-Q971-003.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The contractor increased his prices during the time the project experienced delays with initial endorsement. Also, the sponsor had to hire an appraiser to prepare an appraisal of the land designated for the project in order to obtain a partial release from the State of Maryland Department of Housing and Community Development.

Contact: Willie Spearmon, Director, Office of Housing Assistance and Grant Administration, Department of Housing and Urban Development, 451 Seventh Street, SW, Washington, DC 20410-7000; telephone: (202) 708-3000.

• Regulation: 24 CFR 891.130(B)(1) and (B)(2), and 24 CFR 891.120(B).

Project/Activity: TWB Residential Opportunities, Selden, New York and Holbrook, New York, Project Number: 012-HD087/NY36-Q981-008.

Nature of Requirement: HUD's regulation prohibits identity of interest between the Sponsor or Owner or Borrower and any development team member or between development team members until two years after final closing.

Granted By: Mel Martinez, Secretary.

Date Granted: March 9, 2001.

Reason Waived: The project consisted of acquisition with rehabilitation of three group homes for persons with chronic mental illness. One of the sites was designed to be accessible for persons with mobility impairments. To make all units fully accessible for persons with mobility impairments would make the project financially unfeasible. The sponsor indicated that less than 4 percent of the individuals that were served under their programs require accessible housing.

Contact: Willie Spearmon, Director, Office of Housing Assistance and Grant Administration, Department of Housing and Urban Development, 451 Seventh Street, SW, Washington, DC 20410-7000; telephone: (202) 708-3000.

• Regulation: 24 CFR 891.165.

Project/Activity: Mayfair Apartments, Rocky Mount, North Carolina, Project Number: 053-EE080/NC19-S981-002.

Nature of Requirement: HUD's regulation at 24 CFR 891.165 provides that the duration of the fund reservations for the capital advance is 18 months from the date of issuance with limited exceptions up to 24 months, as approved by HUD on a case-by-case basis.

Granted By: William C. Apgar, Assistant Secretary For Housing—Federal Housing Commissioner.

Date Granted: January 2, 2001.

Reason Waived: The initial site proposed for the project was denied a special use permit because of citizen opposition.

Contact: Willie Spearmon, Director, Office of Housing Assistance and Grant Administration, Department of Housing and Urban Development, 451 Seventh Street, SW, Washington, DC 20410-7000; telephone: (202) 708-3000.

• Regulation: 24 CFR 891.165.

Project/Activity: Main Street Apartments, Point Pleasant, West Virginia, Project Number: 045-HD029/WV15-Q981-003.

Nature of Requirement: HUD's regulation at 24 CFR 891.165 provides that the duration of the fund reservations for the capital advance is 18 months from the date of issuance with limited exceptions up to 24 months, as approved by HUD on a case-by-case basis.

Granted By: William C. Apgar, Assistant Secretary For Housing—Federal Housing Commissioner.

Date Granted: January 2, 2001.

Reason Waived: Problems occurred with the independent cost analyst which had to be resolved.

Contact: Willie Spearmon, Director, Office of Housing Assistance and Grant Administration, Department of Housing and Urban Development, 451 Seventh Street, SW, Washington, DC 20410-7000; telephone: (202) 708-3000.

• Regulation: 24 CFR 891.165.

Project/Activity: Thomaston VOA Thomaston, Maine, Project Number: 024-EE038/ME36-S971-003.

Nature of Requirement: HUD's regulation at 24 CFR 891.165 provides that the duration of the fund reservations for the capital advance is 18 months from the date of issuance with limited exceptions up to 24 months, as approved by HUD on a case-by-case basis.

Granted By: William C. Apgar, Assistant Secretary For Housing—Federal Housing Commissioner.

Date Granted January 2, 2001.

Reason Waived: The Project was delayed due to citizen opposition.

Contact: Willie Spearmon, Director, Office of Housing Assistance and Grant Administration, Department of Housing and Urban Development, 451 Seventh Street, SW, Washington, DC 20410-7000; telephone: (202) 708-3000.

• Regulation: 24 CFR 891.165.

Project/Activity: Belair Manor, Baltimore, Maryland, Project Number: 052-HD032/MD06-Q981-002.

Nature of Requirement: HUD's regulation at 24 CFR 891.165 provides that the duration of the fund reservations for the capital advance is 18 months from the date of issuance with limited exceptions up to 24 months, as approved by HUD on a case-by-case basis.

Granted By: William C. Apgar, Assistant Secretary For Housing—Federal Housing Commissioner.

Date Granted: January 5, 2001.

Reason Waived: The Project involved subordinate financing from the state of Maryland and the terms and conditions of the financing documents were being reviewed by HUD.

Contact: Willie Spearmon, Director, Office of Housing Assistance and Grant Administration, Department of Housing and Urban Development, 451 Seventh Street, SW, Washington, DC 20410-7000, telephone: (202) 708-3000.

• Regulation: 24 CFR 891.165.

Project/Activity: Homes With Hope, Westport, Connecticut, Project Number: 017-HD015/CT26-Q961-001.

Nature of Requirement: HUD's regulation at 24 CFR 891.165 provides that the duration of the fund reservations for the capital advance is 18 months from the date of issuance with limited exceptions up to 24 months, as approved by HUD on a case-by-case basis.

Granted By: William C. Apgar, Assistant Secretary For Housing—Federal Housing Commissioner.

Date Granted: January 5, 2001.

Reason Waived: The Sponsor/Owner had difficulty obtaining a suitable site for rehabilitation, there were delays in assembling the documentation for the firm commitment application, and difficulty in securing a contractor for the job due to a tight housing market and very active period of new construction projects in the local area.

Contact: Willie Spearmon, Director, Office of Housing Assistance and Grant Administration, Department of Housing and Urban Development, 451 Seventh Street, SW, Washington, DC 20410-7000; telephone: (202) 708-3000.

• Regulation: 24 CFR 891.165.

Project/Activity: South Vance Drive Apartments, Beckley, West Virginia, Project Number: 045-HD028/WV15-Q981-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 16, 2001.

Reason Waived: The Field Office needed additional time to accommodate the initial closing.

Contact: Willie Spearmon, Director, Office of Housing Assistance and Grant Administration, Department of Housing and Urban Development, 451 Seventh Street, SW, Washington, DC 20410-7000, telephone: (202) 708-3000.

• Regulation: 24 CFR 891.165.

Project/Activity: International Hotel Senior Housing, San Francisco, California, Project Number: 121-EE059/CA39-S941-011.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 18, 2001.

Reason Waived: The privately-owned parking garage over which the project would be built experienced delays while waiting for approval by the San Francisco Fire Marshall.

Contact: Willie Spearmon, Director, Office of Housing Assistance and Grant Administration, Department of Housing and Urban Development, 451 Seventh Street, SW, Washington, DC 20410-7000; telephone: (202) 708-3000.

• Regulation: 24 CFR 891.165.

Project/Activity: Cedarwood Apartments, Inc., Hayward, Wisconsin, Project Number: 075-EE073/WI39-S981-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: Additional time was needed for the owner to prepare and HUD to process the firm commitment application in order for the project to reach initial closing.

Contact: Willie Spearmon, Director, Office of Housing Assistance and Grant Administration, Department of Housing and Urban Development, 451 Seventh Street, SW, Washington, DC 20410-7000; telephone: (202) 708-3000.

• Regulation: 24 CFR 891.165.

Project/Activity: A.C. Ware Manor, Buffalo, New York, Project Number: 014-EE181/NY06-S981-015.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: There was a delay in obtaining clear title from the City of Buffalo.

Contact: Willie Spearmon, Director, Office of Housing Assistance and Grant Administration, Department of Housing and Urban Development, 451 Seventh Street, SW, Washington, DC 20410-7000; telephone: (202) 708-3000.

• Regulation: 24 CFR 891.165.

Project/Activity: Hancock Estates, Tiverton, Rhode Island, Project Number: 016-EE029/RI43-S981-003.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: The owner lost the original site and the zoning approval of the second site took an inordinate length of time.

Contact: Willie Spearmon, Director, Office of Housing Assistance and Grant Administration, Department of Housing and Urban Development, 451 Seventh Street, SW, Washington, DC 20410-7000; telephone: (202) 708-3000.

• Regulation: 24 CFR 891.165.

Project/Activity: Royale Gardens, Chicago, Illinois, Project Number: 071-EE125/IL06-S961-016 Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: The Sponsor/Owner was awaiting approval of sewer permits from the City of Chicago.

Contact: Willie Spearmon, Director, Office of Housing Assistance and Grant Administration, Department of Housing and Urban Development, 451 Seventh Street, SW, Washington, DC 20410-7000; telephone: (202) 708-3000.

• Regulation: 24 CFR 891.165.

Project/Activity: Mercy Gardens, San Diego, California, Project Number: 129-HD011/CA33-Q961-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: There were numerous delays in achieving a construction start that were beyond the control of the owner.

Contact: Willie Spearmon, Director, Office of Housing Assistance and Grant Administration, Department of Housing and Urban Development, 451 Seventh Street, SW, Washington, DC 20410-7000; telephone: (202) 708-3000.

• Regulation: 24 CFR 891.165.

Project/Activity: Fort Washington Adventist Apartments, Fort Washington, Maryland, Project Number: 000-EE045/MD39-S971-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: More time was needed to obtain building permits in Prince George's County.

Contact: Willie Spearmon, Director, Office of Housing Assistance and Grant Administration, Department of Housing and Urban Development, 451 Seventh Street, SW, Washington, DC 20410-7000, telephone: (202) 708-3000.

• Regulation: 24 CFR 891.165.

Project/Activity: Adda and Paul Safran Senior Housing, Venice, California, Project Number: 122-EE127/CA16-S971-012.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: The Project experienced delays in obtaining zoning approval from the City of Los Angeles; the original contractor's bid was approximately two million dollars over budget and the sponsor had to re-bid the job competitively with other contractors; and additional funds had to be requested by the sponsor from the Los Angeles Housing Department.

Contact: Willie Spearmon, Director, Office of Housing Assistance and Grant Administration, Department of Housing and Urban Development, 451 Seventh Street, SW, Washington, DC 20410-7000; telephone: (202) 708-3000.

• Regulation: 24 CFR 891.165.

Project/Activity: Sumac Trail Apartments, Rhinelander, Wisconsin, Project Number: 075-HD050/WI39-Q971-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: There were delays with the submission of the closing documents.

Contact: Willie Spearmon, Director, Office of Housing Assistance and Grant Administration, Department of Housing and Urban Development, 451 Seventh Street, SW, Washington, DC 20410-7000; telephone: (202) 708-3000.

• Regulation: 24 CFR 891.165.

Project/Activity: Belfast VOA, Inc., Belfast, Maine, Project Number: 024-EE042/ME36-S981-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 19, 2001.

Reason Waived: The Project experienced delays due to local opposition.

Contact: Willie Spearmon, Director, Office of Housing Assistance and Grant Administration, Department of Housing and Urban Development, 451 Seventh Street, SW, Washington, DC 20410-7000; telephone: (202) 708-3000.

• Regulation: 24 CFR 891.165.

Project/Activity: Mt. Oliver Senior Apartments, Mt. Oliver Borough, Pennsylvania, Project Number: 033-EE092/PA28-S981-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: January 23, 2001.

Reason Waived: The owner experienced unanticipated delays in obtaining the necessary local approval to connect the project to the local sanitary sewage system.

Contact: Willie Spearmon, Director, Office of Housing Assistance and Grant Administration, Department of Housing and Urban Development, 451 Seventh Street, SW, Washington, DC 20410-7000; telephone: (202) 708-3000.

• Regulation: 24 CFR 891.165.

Project/Activity: Parc, Peoria, Illinois, Project Number: 072-HD106/IL06-Q981-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 14, 2001.

Reason Waived: Additional time was needed to review the initial closing documents.

Contact: Willie Spearmon, Director, Office of Housing Assistance and Grant Administration, Department of Housing and Urban Development, 451 Seventh Street, SW, Washington, DC 20410-7000; telephone: (202) 708-3000.

• Regulation: 24 CFR 891.165.

Project/Activity: Olive Manor, Sylmar, California, Project Number: 122-EE138/CA16-S981-007.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Project experienced delays due to the lengthy process for the site to be properly zoned.

Contact: Willie Spearmon, Director, Office of Housing Assistance and Grant Administration, Department of Housing and Urban Development, 451 Seventh Street, SW, Washington, DC 20410-7000; telephone: (202) 708-3000.

• Regulation: 24 CFR 891.165.

Project/Activity: Shawmee Heights II, Sandwich, Massachusetts, Project Number: 023-EE102/MA06-S981-007.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: Zoning, historic and environmental issues had to be resolved; the sponsor had to seek secondary financing; and a partial mortgage release and evidence of a right of way for the complex had to be obtained from the Department of Agriculture—Rural Development.

Contact: Willie Spearmon, Director, Office of Housing Assistance and Grant Administration, Department of Housing and Urban Development, 451 Seventh Street, SW, Washington, DC 20410-7000; telephone: (202) 708-3000.

• Regulation: 24 CFR 891.165.

Project/Activity: Moorestown Consumer Home, Lumberton Township, New Jersey, Project Number: 035-HD038/NJ39-Q971-007.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Project was delayed when the local municipality required that lead be abated.

Contact: Willie Spearmon, Director, Office of Housing Assistance and Grant Administration, Department of Housing and Urban Development, 451 Seventh Street, SW, Washington, DC 20410-7000; telephone: (202) 708-3000.

• Regulation: 24 CFR 891.165.

Project/Activity: Eden Park/Cccso House, Huntington, West Virginia, Project Number: 045-EE0II/WV15-S981-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Project was delayed while legal concerns with the site control documents were resolved.

Contact: Willie Spearmon, Director, Office of Housing Assistance and Grant Administration, Department of Housing and Urban Development, 451 Seventh Street, SW, Washington, DC 20410-7000; telephone: (202) 708-3000.

• Regulation: 24 CFR 891.165.

Project/Activity: Beacon Housing, Pasadena, California, Project Number: 122-EE137/CA16-S981-006.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: A zoning change amendment had to be obtained from the City of Los Angeles, the original architect had to be replaced, and site options secured at the time of fund reservation development expired and extensions had to be secured.

Contact: Willie Spearmon, Director, Office of Housing Assistance and Grant Administration, Department of Housing and Urban Development, 451 Seventh Street, SW, Washington, DC 20410-7000; telephone: (202) 708-3000.

• Regulation: 24 CFR 891.165.

Project/Activity: Ferriday Place, Ferriday, Louisiana, Project Number: 064-EE098/LA48-S981-012.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: It took the sponsor an inordinate amount of time to gather the closing documents and the Field office needed additional time to review the documents.

Contact: Willie Spearmon, Director, Office of Housing Assistance and Grant Administration, Department of Housing and Urban Development, 451 Seventh Street, SW, Washington, DC 20410-7000; telephone: (202) 708-3000.

• Regulation: 24 CFR 891.165.

Project/Activity: Joy Retreat Senior Housing, Inc., Petersburg, West Virginia, Project Number: 045-EE012/WV15-S981-002.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Field office was seeking secondary financing to meet a construction shortfall.

Contact: Willie Spearmon, Director, Office of Housing Assistance and Grant Administration, Department of Housing and Urban Development, 451 Seventh Street, SW, Washington, DC 20410-7000, telephone: (202) 708-3000.

• Regulation: 24 CFR 891.165.

Project/Activity: Franklin Consumer Home, Franklin, New Jersey, Project Number: 031-HD095/NJ39-Q981-010.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Field Office needed additional time to process and issue the firm commitment and to review the initial closing documents.

Contact: Willie Spearmon, Director, Office of Housing Assistance and Grant Administration, Department of Housing and Urban Development, 451 Seventh Street, SW, Washington, DC 20410-7000; telephone: (202) 708-3000.

• Regulation: 24 CFR 891.165.

Project/Activity: Absecon Consumer Home, Absecon, New Jersey, Project Number: 031-HD084/NJ39-Q971-009.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The owner experienced delays in the submission of the firm commitment application.

Contact: Willie Spearmon, Director, Office of Housing Assistance and Grant Administration, Department of Housing and Urban Development, 451 Seventh Street, SW, Washington, DC 20410-7000; telephone: (202) 708-3000.

• Regulation: 24 CFR 891.165.

Project/Activity: Access House I, Parsippany-Troy Hills, New Jersey, Project Number: 031-HD078/Q971-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Project was delayed due to The Township Building Department's backlog with processing applications for building permits.

Contact: Willie Spearmon, Director, Office of Housing Assistance and Grant Administration, Department of Housing and Urban Development, 451 Seventh Street, SW, Washington, DC 20410-7000; telephone: (202) 708-3000.

• Regulation: 24 CFR 891.165.

Project/Activity: Sunshine Village, Slidell, Louisiana, Project Number: 064-HD043/LA48-Q981-002.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The current city ordinances' requirements resulted in the need to seek additional funding which caused a delay in processing the fund reservation.

Contact: Willie Spearmon, Director, Office of Housing Assistance and Grant Administration, Department of Housing and Urban Development, 451 Seventh Street, SW, Washington, DC 20410-7000; telephone: (202) 708-3000.

• Regulation: 24 CFR 891.165.

Project/Activity: Hudson Street Corporation, Syracuse, New York, Project Number: 014-HD080/NY06-Q981-013.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: Weather conditions hindered the owner from achieving a construction start.

Contact: Willie Spearmon, Director, Office of Housing Assistance and Grant Administration, Department of Housing and Urban Development, 451 Seventh Street, SW, Washington, DC 20410-7000; telephone: (202) 708-3000.

• Regulation: 24 CFR 891.165.

Project/Activity: The Diocese of Buffalo, Buffalo, New York, Project Number: 014-HD066/NY06-Q971-013.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: Additional time was needed for the project to reach initial closing.

Contact: Willie Spearmon, Director, Office of Housing Assistance and Grant Administration, Department of Housing and Urban Development, 451 Seventh Street, SW., Washington, DC 20410-7000; telephone: (202) 708-3000.

• Regulation: 24 CFR 891.165.

Project/Activity: Alexander Apartment of Plant City, Inc., Plant City, Florida, Project Number: 067-HD065/FL29-Q981-012.

Nature of Requirement: HUDs regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Project experienced delays due to the city requiring modifications to the plans and specifications.

Contact: Willie Spearmon, Director, Office of Housing Assistance and Grant Administration, Department of Housing and Urban Development, 451 Seventh Street, SW., Washington, DC 20410-7000; telephone: (202) 708-3000.

• Regulation: 24 CFR 891.165.

Project/Activity: Inglis Gardens At Evesham, Eatontown, New Jersey, Project Number: 031-HD040/NJ39-Q981-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The lead sponsor withdrew in August 2000, and the existing sponsor had to wait for the Inglis Board of Director's Authority to continue with the project.

Contact: Willie Spearmon, Director, Office of Housing Assistance and Grant Administration, Department of Housing and Urban Development, 451 Seventh Street, SW., Washington, DC 20410-7000; telephone: (202) 708-3000.

• Regulation: 24 CFR 891.165.

Project/Activity: Atlantic County Independent Living Complex, Neptune City, New Jersey, Project Number: 031-HD042/NJ39-Q981-006.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Project was delayed due to the discovery of additional items requiring correction and repair which resulted in re-inspection, revision of drawings, re-bidding of the project and revision of the project budget to accommodate the changes.

Contact: Willie Spearmon, Director, Office of Housing Assistance and Grant Administration, Department of Housing and Urban Development, 451 Seventh Street, SW., Washington, DC 20410-7000; telephone: (202) 708-3000.

• Regulation: 24 CFR 891.165.

Project/Activity: Monmouth County Independent Living Complex, Scattered Sites-Monmouth County, New Jersey, Project Number: 031-HD091/NJ39-Q981-005.

Nature of Requirement: HUD's regulation at 24 CFR 891.165 provides that the duration of the fund reservations for the capital advance is 18 months from the date of issuance with limited exceptions up to 24 months, as approved by HUD on a case-by-case basis.

Granted By: Mel Martinez, Secretary.

Date Granted: February 15, 2001.

Reason Waived: The Project was delayed due to the discovery of additional items requiring correction and repair which resulted in re-inspection, revision of drawings, re-bidding of the project and revision of the project budget to accommodate the changes.

Contact: Willie Spearmon, Director, Office of Housing Assistance and Grant Administration, Department of Housing and Urban Development, 451 Seventh Street, SW., Washington, DC 20410-7000; telephone: (202) 708-3000.

• Regulation: 24 CFR 891.165.

Project/Activity: B'nai B'rith at Chesilhurst House, Boro of Chesilhurst, New Jersey, Project Number: 035-EE029/NJ39-S971-006.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The owner needed additional time to complete the arrangements for secondary financing and correct certain deficiencies found in the initial closing documents.

Contact: Willie Spearmon, Director, Office of Housing Assistance and Grant Administration, Department of Housing and Urban Development, 451 Seventh Street, SW., Washington, DC 20410-7000; telephone: (202) 708-3000.

• Regulation: 24 CFR 891.165.

Project/Activity: King Hill Apartments, St. Joseph, Missouri, Project Number: 084-EE031/MO16-S981-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: All parties involved with the project were unable to meet until January 2001, to fully complete initial closing documents.

Contact: Willie Spearmon, Director, Office of Housing Assistance and Grant Administration, Department of Housing and Urban Development, 451 Seventh Street, SW., Washington, DC 20410-7000; telephone: (202) 708-3000.

• Regulation: 24 CFR 891.165.

Project/Activity: Central Park Senior Residence, Wichita, Kansas, Project Number: 102-EE022/KS16-S981-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: Existing restrictive covenants on the original site prohibited housing for the elderly under the Section 202 program and the owner had to locate another site.

Contact: Willie Spearmon, Director, Office of Housing Assistance and Grant Administration, Department of Housing and Urban Development, 451 Seventh Street, SW., Washington, DC 20410-7000; telephone: (202) 708-3000.

• Regulation: 24 CFR 891.165.

Project/Activity: O'Brien Apartments, Springfield, Missouri, Project Number: 084—HD025/MO16-Q981-002.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: Delays were encountered in obtaining city variances and additional funding for the project.

Contact: Willie Spearmon, Director, Office of Housing Assistance and Grant Administration, Department of Housing and Urban Development, 451 Seventh Street, SW., Washington, DC 20410-7000; telephone: (202) 708-3000.

• Regulation: 24 CFR 891.165.

Project/Activity: Carbondale Supportive Housing, Inc., Carbondale, Illinois, Project Number: 072-HD101/IL06-Q971-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: There was a change in site, the contractor withdrew from the project and a new contractor was hired which caused the cost of the project to go up.

Contact: Willie Spearmon, Director, Office of Housing Assistance and Grant Administration, Department of Housing and Urban Development, 451 Seventh Street, SW., Washington, DC 20410-7000; telephone: (202) 708-3000.

• Regulation: 24 CFR 891.165.

Project/Activity: TWB Residential Opportunities, Suffolk County, New York, Project Number: 012-HD087/NY36-Q981-008.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: Considerable time was lost in finalizing site control and for the owner's development team to resolve discrepancies in the cost estimate.

Contact: Willie Spearmon, Director, Office of Housing Assistance and Grant Administration, Department of Housing and Urban Development, 451 Seventh Street, SW., Washington, DC 20410-7000; telephone: (202) 708-3000.

• Regulation: 24 CFR 891.165.

Project/Activity: Fall River Residence, Fall River, Massachusetts, Project Number: 023-HD127/MA06-Q971-008.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The Field Office needed additional time to process the firm commitment application and to prepare for initial closing.

Contact: Willie Spearmon, Director, Office of Housing Assistance and Grant Administration, Department of Housing and Urban Development, 451 Seventh Street, SW, Washington, DC 20410-7000; telephone: (202) 708-3000.

• Regulation: 24 CFR 891.165.

Project/Activity: Volunteers of America, Belfast, Maine, Project Number: 024-EE042/ME36-S981-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The owner had to locate another site due to opposition from the local housing authority and town manager.

Contact: Willie Spearmon, Director, Office of Housing Assistance and Grant Administration, Department of Housing and Urban Development, 451 Seventh Street, SW, Washington, DC 20410-7000; telephone: (202) 708-3000.

• Regulation: 24 CFR 891.165.

Project/Activity: Stanton Accessible Apartments, Stanton, California, Project Number: 143-HD008/CA43-Q981-002.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The Project was delayed due to a request for a zoning variance to reduce the city's parking requirements.

Contact: Willie Spearmon, Director, Office of Housing Assistance and Grant Administration, Department of Housing and Urban Development, 451 Seventh Street, SW, Washington, DC 20410-7000; telephone: (202) 708-3000.

• Regulation: 24 CFR 891.165.

Project/Activity: Palms Manor, Los Angeles, California, Project Number: 122-HD113/CA16-Q981-005.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: It took several months before the owner received their tax exemption number and due to the architectural drawings having to be revised.

Contact: Willie Spearmon, Director, Office of Housing Assistance and Grant Administration, Department of Housing and Urban Development, 451 Seventh Street, SW, Washington, DC 20410-7000; telephone: (202) 708-3000.

• Regulation: 24 CFR 891.165.

Project/Activity: Lime House, Los Angeles, California, Project Number: 122-EE136/CA16-S981-005.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The Project had been delayed due to the lengthy processing of a zoning change by the city.

Contact: Willie Spearmon, Director, Office of Housing Assistance and Grant Administration, Department of Housing and Urban Development, 451 Seventh Street, SW, Washington, DC 20410-7000; telephone: (202) 708-3000.

• Regulation: 24 CFR 891.165.

Project/Activity: Helms Manor, Los Angeles, California, Project Number: 122-HD115/CA16-Q981-007.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: It took several months before the owner received their tax exemption number and due to the architectural drawings having to be revised.

Contact: Willie Spearmon, Director, Office of Housing Assistance and Grant Administration, Department of Housing and Urban Development, 451 Seventh Street, SW, Washington, DC 20410-7000; telephone: (202) 708-3000.

• Regulation: 24 CFR 891.165.

Project/Activity: McFarland Apartments, Las Vegas, Nevada, Project Number: 125-EE110/NV39-S981-002.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The sponsors of the proposed project had to identify and gain control of two replacement sites before they were able to proceed with the development.

Contact: Willie Spearmon, Director, Office of Housing Assistance and Grant Administration, Department of Housing and Urban Development, 451 Seventh Street, SW, Washington, DC 20410-7000; telephone: (202) 708-3000.

• Regulation: 24 CFR 891.165.

Project/Activity: Gibson Court, Ukiah, Mendocino County, California, Project Number: 121-HD068/CA39-Q981-005.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: Delays were caused by the division of the site to accommodate an additional project funded by the State of California home funds and deficiencies needed to be corrected in the sponsor's firm commitment application.

Contact: Willie Spearmon, Director, Office of Housing Assistance and Grant Administration, Department of Housing and Urban Development, 451 Seventh Street, SW, Washington, DC 20410-7000; telephone: (202) 708-3000.

• Regulation: 24 CFR 891.165.

Project/Activity: Ray Rawson Villa, Las Vegas, Nevada, Project Number: 125-HD064/NV25-Q971-001.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: Delays were caused by the difficulty in retaining qualified contractors due to the construction boom in the city.

Contact: Willie Spearmon, Director, Office of Housing Assistance and Grant Administration, Department of Housing and Urban Development, 451 Seventh Street, SW, Washington, DC 20410-7000; telephone: (202) 708-3000.

• Regulation: 24 CFR 891.165.

Project/Activity: Westminster Senior Housing, Los Angeles, California, Project Number: 122-EE143/CA16-Q981-012.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The Project had been delayed due to the lengthy process to have the project site released from The Los Angeles Unified School District's Official list of sites to build several continuation schools in Los Angeles and several design changes requested by The City of Los Angeles Housing Department.

Contact: Willie Spearmon, Director, Office of Housing Assistance and Grant Administration, Department of Housing and Urban Development, 451 Seventh Street, SW, Washington, DC 20410-7000; telephone: (202) 708-3000.

• Regulation: 24 CFR 891.165.

Project/Activity: Allen House, Los Angeles, California, Project Number: 122-HD110/CA16-Q981-002.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The subject project experienced delays in achieving a construction start due to the lengthy process that was incurred in receiving IRS tax exemption, errors in the title report, and the process to obtain additional funding from the city of industry.

Contact: Willie Spearmon, Director, Office of Housing Assistance and Grant Administration, Department of Housing and Urban Development, 451 Seventh Street, SW, Washington, DC 20410-7000; telephone: (202) 708-3000.

• Regulation: 24 CFR 891.165.

Project/Activity: Casa De Paz Apartments, Los Angeles, California, Project Number: 122-HHD116/CA16-Q981-009.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: A new contractor had to be hired because the initial contractor withdrew, the plans had to be revised because the project was over budget, and lengthy county and city council procedures had to be followed in order to acquire additional funding.

Contact: Willie Spearmon, Director, Office of Housing Assistance and Grant Administration, Department of Housing and Urban Development, 451 Seventh Street, SW, Washington, DC 20410-7000; telephone: (202) 708-3000.

• Regulation: 24 CFR 891.165.

Project/Activity: Vista Alegre, Glendale, Arizona, Project Number: 123-EE065/AZ20-S981-002.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: The Project had been delayed because it took the sponsor/owner over a year to obtain the abandonment of a dry well which was located on the site.

Contact: Willie Spearmon, Director, Office of Housing Assistance and Grant Administration, Department of Housing and Urban Development, 451 Seventh Street, SW, Washington, DC 20410-7000; telephone: (202) 708-3000.

• Regulation: 24 CFR 891.165.

Project/Activity: Corbin House, Northridge, California, Project Number: 122-HD114/CA16-Q981-006.

Nature of Requirement: HUD's regulation at 24 CFR 891.165 provides that the duration of the fund reservations for the capital advance is 18 months from the date of issuance with limited exceptions up to 24 months, as approved by HUD on a case-by-case basis.

Granted By: Mel Martinez, Secretary.

Date Granted: March 9, 2001.

Reason Waived: Delays were caused by administrative changes in the project sponsor, the hiring of a new and more responsive architect, and the city required additional drawings from a structural engineer.

Contact: Willie Spearmon, Director, Office of Housing Assistance and Grant Administration, Department of Housing and Urban Development, 451 Seventh Street, SW, Washington, DC 20410-7000; telephone: (202) 708-3000.

III. Regulatory Waivers Granted by the Office of Multifamily Housing Assistance Restructuring (OMHAR)

For further information about the following waiver actions, please see the name of the contact person which immediately follows the description of the waiver granted.

• Regulation: 24 CFR 401.600.

Project/Activity: The following projects requested waivers to the 12-month limit at above-market rents (24 CFR 401.600):

FHA No. and project name | State
11435250 Bay Breeze Apartments | TX
06335180 Briarwood Apartments Phase II | FL
06335009 Cleveland Arms Apartments | FL
06135254 Columbus Villas | GA
06335151 Jacksonville Townhouse | FL
09135027 Lakota Community Homes, Inc | SD
12735282 Meridian Manor Apartments | WA
07535269 Metro Homes | WI
08335248 Royal Arms Apartments | KY
06535236 Ruleville Apartments | MS
04335191 Staunton Commons II | OH
04335168 Windsor Place | OH

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: February 16, 2001.

Reasons Waived: The attached list of projects were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

Regulation: 24 CFR 401.600.

Project/Activity: The following projects requested waivers to the 12-month limit at above-market rents (24 CFR 401.600):

FHA No. and project name | State
08335242 Greater Corbin Manor | KY
08444138 Sunflower Park Apartments | KS

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: March 6, 2001.

Reasons Waived: The attached list of projects were not assigned to the participating agent entities in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulation: 24 CFR 401.600.

Project/Activity: The following projects requested waivers to the 12-month limit at above-market rents (24 CFR 401.600):

FHA No. and project name | State
09335085 Broadview Manor | MT
01257038 Crotona VII | NY
02335131 Hotel Raymond Apartments | MA
01257031 Hunts Points Peninsula | NY
07535249 La Corona Apartments | WI
01257032 New West 111th Street Phase I | NY
05435347 Orangeburg Manor Apartments | SC
02335135 Sycamore House | MA
04635470 Tamarind Square | OH
01635015 Vulcan Apts. | RI
02344184 Walnut Street Apartments | MA

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: March 19, 2001.

Reasons Waived: The attached list of projects were not assigned to the participating agent entities in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

IV. Regulatory Waivers Granted by the Office of Public and Indian Housing

For further information about the following waiver actions, please see the name of the contact person which immediately follows the description of the waiver granted.

• Regulation: 24 CFR 982.306(d).

Project/Activity: Lowell Housing Authority, Lowell, Massachusetts, housing choice voucher program.

Nature of Requirement: The regulation limits the circumstances under which a public housing agency PHA may approve the leasing of a unit if the owner of the unit is a close relative of the family.

Granted By: Harold Lucas, Assistant Secretary for Public and Indian Housing.

Date Granted: January 11, 2001.

Reason Waived: Approval of the waiver permitted a voucher holder to lease a unit from a relative because of the unavailability of suitable vacant rental housing in the PHA's jurisdiction.

Contact: Gerald Benoit, Director Real Estate and Housing Performance Division, Office of Public and Assisted Housing Delivery, Office of Public and Indian Housing, Department of Housing and Urban Development, 451 Seventh Street, SW., Room 4210, Washington, DC 20410; telephone (202) 708-0970.

• Regulation: 24 CFR 983.4(a)(2), 983.51, 983.55(a), (c) or (d), and 983.56.

Project/Activity: Dallas Housing Authority (DHA), Dallas, Texas, project based certificate program.

Nature of Requirement: The regulations address the competitive selection of owner proposals for the project based certificate program.

Granted By: Harold Lucas, Assistant Secretary for Public and Indian Housing.

Date Granted: January 9, 2001.

Reason Waived: Approval of the waiver allowed the DHA to comply with a court decree to develop 100 elderly only, project-based certificate units as a part of the Revitalization Plan of the Roseland Homes public housing development.

Contact: Gerald Benoit, Director Real Estate and Housing Performance Division, Office of Public and Assisted Housing Delivery, Office of Public and Indian Housing, Department of Housing and Urban Development, 451 Seventh Street, SW, Room 4210, Washington, DC 20410; telephone (202) 708-0970.

• Regulation: 24 CFR 983.51(b).

Project/Activity: Massachusetts Department of Housing and Community Development (DHCD), Boston, Massachusetts, project-based voucher program.

Nature of Requirement: The regulation provides that there be a 30-day advertising period.

Granted By: Harold Lucas, Assistant Secretary for Public and Indian Housing.

Date Granted: January 19, 2001.

Reason Waived: Approval of the waiver would assure that at least 100 units developed with tax credits and other State-supported private housing funds would be available to housing choice voucher holders.

Contact: Gerald Benoit, Director Real Estate and Housing Performance Division, Office of Public and Assisted Housing Delivery, Office of Public and Indian Housing, Department of Housing and Urban Development, 451 Seventh Street, SW, Room 4210, Washington, DC 20410; telephone (202) 708-0970.

• Regulation: 24 CFR 983.51 (a), (b), and (d), 983.55(a) and (d).

Project/Activity: New Haven Housing Authority (NHHA), New Haven, Connecticut, project-based voucher program. A request was made for a waiver of the competitive selection of owner proposals to allow The Community Builders, Inc. (TCB), in partnership with the City of New Haven, and NHHA to participate in a major revitalization in the Hill neighborhood of New Haven. TCB, in conjunction with the City, has agreed to acquire the 301-unit Church Street South project from HUD. TCB will demolish the project to develop replacement housing consisting of 120 units of multifamily housing and 100 duplex units.

Nature of Requirement: The regulations provide that a public housing agency provide for a competitive selection of owner proposals and that applications be in compliance with the PHA's written selection policy and procedures for new construction.

Granted By: Harold Lucas, Assistant Secretary for Public and Indian Housing.

Date Granted: January 19, 2001.

Reason Waived: Approval of the waivers will permit the development of 100 duplex units that will be sold to low and moderate income families who will occupy one unit in each duplex and the remaining unit will be leased to a family with assistance under the project-based voucher program. The approval also supports the revitalization efforts of the Hill neighborhood, that is located in the New Haven Empowerment Zone.

Contact: Gerald Benoit, Director Real Estate and Housing Performance Division, Office of Public and Assisted Housing Delivery, Office of Public and Indian Housing, Department of Housing and Urban Development, 451 Seventh Street, SW, Room 4210, Washington, DC 20410; telephone (202) 708-0970.

• Regulation: 24 CFR 983.7(b)(1) and 983.101(a).

Project/Activity: San Francisco Housing Authority (SFHA), San Francisco, California, project-based assistance.

Nature of Requirement: The regulations require that the agreement to enter into housing assistance payment contract, (AHAP) must be executed before the start of any new construction.

Granted By: Gloria J. Cousar, Acting General Deputy Assistant Secretary for Public and Indian Housing.

Date Granted: March 13, 2001.

Reason Waived: Approval of the waivers will provide 31 units of additional affordable housing for low income families in the tight San Francisco rental market.

Contact: Gerald Benoit, Director Real Estate and Housing Performance Division, Office of Public and Assisted Housing Delivery, Office of Public and Indian Housing, Department of Housing and Urban Development, 451 Seventh Street, SW, Room 4210, Washington, DC 20410; telephone (202) 708-0970.

• Regulation: 24 CFR 983.51(a), (b) and (c).

Project/Activity: District of Columbia Housing Authority (DCHA), Washington, D.C. project-based certificate (PBC) program.

Nature of Requirement: The regulations require a PHA to select units to be subsidized with PBC assistance in accordance with a written, HUD-approved unit selection policy and prescribe certain advertising procedures that must be followed. In addition, the regulation requires that the PHA's written selection policy identify the factors the PHA will use to rank and select applications, etc.

Granted By: Gloria J. Cousar, Acting General Deputy Assistant Secretary for Public and Indian Housing.

Date Granted: January 29, 2001.

Reason Waived: Approvals of these waivers will permit the DCHA to provide project-based subsidies for 38 one-bedroom units to be redeveloped at Edgewood Terrace III. Approval of these waivers will also help to preserve 200 units of subsidized housing for low income seniors in the District of Columbia at a time of rapidly rising housing costs and a critical shortage of affordable housing.

Contact: Gerald Benoit, Director Real Estate and Housing Performance Division, Office of Public and Assisted Housing Delivery, Office of Public and Indian Housing, Department of Housing and Urban Development, 451 Seventh Street, SW, Room 4210, Washington, DC 20410; telephone (202) 708-0970.

[FR Doc. 01-17272 Filed 7-10-01; 8:45 am]

BILLING CODE 4210-01-P